DEPARTMENT OF TRANSPORTATION

Federal Aviation Administration

14 CFR Part 97

[Docket No. 31014; Amdt. No. 3640]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 5, 2015. The compliance date for each SIAP, associated Takeoff Minimums, and ODP is specified in the amendatory provisions.

The incorporation by reference of certain publications listed in the regulations is approved by the Director of the Federal Register as of May 5, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on April 10, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
28-May-15 | MO | Neosho | Neosho Hugh Robinson | 4/0069 | 03/24/15 | RNAV (GPS) RWY 19, Amdt 1.
28-May-15 | MO | Fredericktown | A Paul Vance Fredericktown Rgnl | 4/0070 | 03/27/15 | RNAV (GPS) RWY 1, Amdt 1.
28-May-15 | MN | Wheaton | Wheaton Muni | 4/0097 | 03/24/15 | RNAV (GPS) RWY 34, Orig.
28-May-15 | MN | Slayton | Slayton Muni | 4/0110 | 03/24/15 | RNAV (GPS) RWY 17, Orig.
28-May-15 | MO | Joplin | Joplin Rgnl | 4/0113 | 03/25/15 | RNAV (GPS) RWY 31, Amdt 1.
28-May-15 | MN | Faribault | Faribault Muni | 4/0122 | 03/27/15 | RNAV (GPS) RWY 12, Amdt 1.
28-May-15 | MN | Preston | Fillmore County | 4/0148 | 03/27/15 | RNAV (GPS) RWY 11, Orig.
28-May-15 | MN | Preston | Fillmore County | 4/0150 | 03/27/15 | RNAV (GPS) RWY 29, Amdt 1.
28-May-15 | MN | Fergus Falls | Fergus Falls Muni-Einar Mickelson Fld | 4/0151 | 03/27/15 | RNAV (GPS) RWY 13, Orig.
28-May-15 | MO | Fredericktown | A Paul Vance Fredericktown Rgnl | 4/0174 | 03/27/15 | RNAV (GPS) RWY 19, Amdt 1.
28-May-15 | MN | Hallock | Hallock Muni | 4/0175 | 03/25/15 | RNAV (GPS) RWY 31, Amdt 1.
28-May-15 | MN | Madison | Lac Qui Parle County | 4/0184 | 03/24/15 | RNAV (GPS) RWY 14, Orig.
28-May-15 | MN | Wheaton | Wheaton Muni | 4/0191 | 03/24/15 | RNAV (GPS) RWY 16, Orig.
28-May-15 | MI | Gladwin | Gladwin Zettel Memorial | 4/0302 | 03/27/15 | RNAV (GPS) RWY 27, Orig.
28-May-15 | MN | Madison | Lac Qui Parle County | 4/0304 | 03/24/15 | RNAV (GPS) RWY 32, Orig.
28-May-15 | MN | Madison | Lac Qui Parle County | 4/0305 | 03/24/15 | NDB RWY 32, Amdt 4.
28-May-15 | MO | Maryville | Northwest Missouri Rgnl | 4/0412 | 03/27/15 | RNAV (GPS) RWY 14, Amdt 1.
28-May-15 | NE | Kearney | Kearney Rgnl | 4/0429 | 03/24/15 | ILS OR LOC RWY 36, Amdt 2.
28-May-15 | MN | Bigfork | Bigfork Muni | 4/0437 | 03/27/15 | RNAV (GPS) RWY 33, Orig-A.
28-May-15 | MI | Gladwin | Gladwin Zettel Memorial | 4/0443 | 03/27/15 | RNAV (GPS) RWY 9, Orig.
28-May-15 | MI | Escanaba | Delta County | 4/0482 | 03/24/15 | LOC/DME BC RWY 27, Amdt 1A.
28-May-15 | MI | Escanaba | Delta County | 4/0483 | 03/24/15 | VOR RWY 27, Amdt 12A.
28-May-15 | MI | Escanaba | Delta County | 4/0485 | 03/24/15 | RNAV (GPS) RWY 36, Orig-A.
28-May-15 | MI | Escanaba | Delta County | 4/0486 | 03/24/15 | RNAV (GPS) RWY 27, Amdt 1A.
28-May-15 | MI | Escanaba | Delta County | 4/0488 | 03/24/15 | VOR RWY 36, Orig-B.
28-May-15 | MN | Hutchinson | Hutchinson Muni-Butler Field | 4/0497 | 03/25/15 | RNAV (GPS) RWY 15, Orig-A.
28-May-15 | ND | Fargo | Hector Intl | 4/0501 | 03/27/15 | RNAV (GPS) RWY 9, Amdt 1.
28-May-15 | MN | Slayton | Slayton Muni | 4/0504 | 03/24/15 | RNAV (GPS) RWY 35, Orig.
28-May-15 | MN | Eveleth | Eveleth-Virginia Muni | 4/0526 | 03/27/15 | RNAV (GPS) RWY 27, Orig.
28-May-15 | MN | Eveleth | Eveleth-Virginia Muni | 4/0528 | 03/27/15 | VOR RWY 27, Amdt 1.
28-May-15 | MN | Faribault | Faribault Muni | 4/0536 | 03/27/15 | RNAV (GPS) RWY 30, Amdt 1.
28-May-15 | MN | Glenwood | Glenwood Muni | 4/0547 | 03/27/15 | RNAV (GPS) RWY 33, Amdt 1.
28-May-15 | MI | Manistique | Schoolcraft County | 4/0606 | 03/25/15 | VOR RWY 28, Amdt 1.
28-May-15 | MI | Jackson | Jackson County-Reynolds Field | 4/0679 | 03/25/15 | RNAV (GPS) RWY 14, Amdt 1.
28-May-15 | MN | Hallock | Hallock Muni | 4/0686 | 03/25/15 | RNAV (GPS) RWY 13, Orig.
28-May-15 | MI | Manistique | Schoolcraft County | 4/0687 | 03/25/15 | RNAV (GPS) RWY 28, Orig.
28-May-15 | IL | Chicago/West Chicago | Dupage | 4/0946 | 03/24/15 | RNAV (GPS) RWY 20L, Orig-A.
28-May-15 | ND | Fargo | Hector Intl | 4/0947 | 03/27/15 | RNAV (GPS) RWY 27, Amdt 1.
28-May-15 | MN | Detroit Lakes | Detroit Lakes-Wething Field | 4/0963 | 03/24/15 | VOR RWY 31, Amdt 1.
28-May-15 | IL | Chicago/West Chicago | Dupage | 4/1051 | 03/24/15 | RNAV (GPS) RWY 2R, Orig-A.
28-May-15 | MI | Jackson | Jackson County-Reynolds Field | 4/1085 | 03/25/15 | RNAV (GPS) RWY 32, Orig-A.
28-May-15 | PA | Franklin | Venango Rgnl | 5/0851 | 03/27/15 | VOR RWY 21, Amdt 8.
28-May-15 | WI | Prairie Du Chien | Prairie Du Chien Muni | 5/3716 | 03/20/15 | RNAV (GPS) RWY 32, Orig-A.
28-May-15 | WI | Prairie Du Chien | Prairie Du Chien Muni | 5/3717 | 03/20/15 | RNAV (GPS) RWY 14, Orig-A.
28-May-15 | WI | Prairie Du Chien | Prairie Du Chien Muni | 5/3718 | 03/20/15 | RNAV (GPS) RWY 29, Orig-A.
28-May-15 | WI | Prairie Du Chien | Prairie Du Chien Muni | 5/3719 | 03/20/15 | VOR/DME RWY 29, Amdt 8A.
28-May-15 | CA | San Diego/El Cajon | Gillespie Field | 5/3728 | 03/27/15 | RNAV (GPS) RWY 17, Amdt 2B.
28-May-15 | CA | San Diego/El Cajon | Gillespie Field | 5/3729 | 03/27/15 | LOC/DME D, Amdt 11.
28-May-15 | WI | Ladysmith | Rusk County | 5/3732 | 03/20/15 | NDB RWY 32, Amdt 3.
28-May-15 | WI | Ladysmith | Rusk County | 5/3733 | 03/20/15 | RNAV (GPS) RWY 32, Orig.
28-May-15 | WI | Ladysmith | Rusk County | 5/3734 | 03/20/15 | RNAV (GPS) RWY 14, Orig.
28-May-15 | WI | Tomahawk | Tomahawk Rgnl | 5/3747 | 03/20/15 | RNAV (GPS) RWY 9, Amdt 2A.
28-May-15 | WI | Tomahawk | Tomahawk Rgnl | 5/3748 | 03/20/15 | RNAV (GPS) RWY 27, Amdt 2.
28-May-15 | WI | Superior | Richard I Bong | 5/3749 | 03/20/15 | RNAV (GPS) RWY 14, Orig.
28-May-15 | WI | Superior | Richard I Bong | 5/3750 | 03/20/15 | RNAV (GPS) RWY 22, Orig.
28-May-15 | WI | Superior | Richard I Bong | 5/3751 | 03/20/15 | RNAV (GPS) RWY 32, Orig.
28-May-15 | WI | Platteville | Platteville Muni | 5/3757 | 03/20/15 | RNAV (GPS) RWY 7, Orig-A.
28-May-15 | WI | Shell Lake | Shell Lake Muni | 5/3761 | 03/20/15 | RNAV (GPS) RWY 32, Orig.
28-May-15 | WI | Shell Lake | Shell Lake Muni | 5/3762 | 03/20/15 | RNAV (GPS) RWY 14, Orig.
28-May-15 | WI | Shell Lake | Shell Lake Muni | 5/3763 | 03/20/15 | VOR/DME RWY 32, Orig.
28-May-15 | WI | Waukesha | Waukesha County | 5/3765 | 03/20/15 | ILS OR LOC RWY 10, Amdt 2.
28-May-15 | WI | Neillsville | Neillsville Muni | 5/3766 | 03/23/15 | NDB RWY 28, Amdt 7.
28-May-15 | WI | Neillsville | Neillsville Muni | 5/3767 | 03/23/15 | RNAV (GPS) RWY 10, Orig.
28-May-15 | WI | Chetek | Chetek Muni-Southworth | 5/3768 | 03/23/15 | RNAV (GPS) RWY 17, Orig-C.
28-May-15 | WI | Chetek | Chetek Muni-Southworth | 5/3769 | 03/23/15 | RNAV (GPS) RWY 35, Orig-B.
28-May-15 | KY | Bowling Green | Bowling Green-Warren County Rgnl | 5/4171 | 03/24/15 | VOR-A, Orig.
28-May-15 | KY | Bowling Green | Bowling Green-Warren County Rgnl | 5/4172 | 03/24/15 | RNAV (GPS) RWY 21, Amdt 1.
28-May-15 | KY | Bowling Green | Bowling Green-Warren County Rgnl | 5/4173 | 03/24/15 | NDB RWY 3, Amdt 2.
28-May-15 | AL | Dothan | Dothan Rgnl | 5/4635 | 03/24/15 | ILS OR LOC RWY 32, Amdt 9.
28-May-15 | AL | Dothan | Dothan Rgnl | 5/4636 | 03/24/15 | VOR RWY 14, Amdt 4.
28-May-15 | AL | Fairhope | H L Sonny Callahan | 5/4660 | 03/24/15 | RNAV (GPS) RWY 1, Amdt 2.
28-May-15 | AL | Fairhope | H L Sonny Callahan | 5/4662 | 03/24/15 | RNAV (GPS) RWY 19, Amdt 2.
28-May-15 | AL | Birmingham | Birmingham-Shuttlesworth Intl | 5/4663 | 03/24/15 | LOC RWY 18, Amdt 2A.
28-May-15 | AL | Anniston | Anniston Rgnl | 5/4664 | 03/24/15 | NDB RWY 5, Amdt 4B.
28-May-15 | AL | Anniston | Anniston Rgnl | 5/4665 | 03/24/15 | ILS OR LOC RWY 5, Amdt 3B.
28-May-15 | AL | Alexander City | Thomas C Russell Fld | 5/4666 | 03/24/15 | RNAV (GPS) RWY 18, Amdt 1.
28-May-15 | AL | Andalusia/Opp | South Alabama Rgnl At Bill Benton Field | 5/4668 | 03/24/15 | RNAV (GPS) RWY 29, Amdt 2.
28-May-15 | AL | Andalusia/Opp | South Alabama Rgnl At Bill Benton Field | 5/4669 | 03/24/15 | COPTER NDB RWY 29, Orig.
28-May-15 | AL | Andalusia/Opp | South Alabama Rgnl At Bill Benton Field | 5/4670 | 03/24/15 | RNAV (GPS) RWY 11, Amdt 2.
28-May-15 | AL | Ozark | Blackwell Field | 5/4676 | 03/24/15 | VOR RWY 31, Amdt 7.
28-May-15 | AL | Marion | Vaiden Field | 5/4677 | 03/24/15 | RNAV (GPS) RWY 34, Amdt 1.
28-May-15 | AL | Gadsden | Northeast Alabama Rgnl | 5/4765 | 03/24/15 | ILS OR LOC/DME RWY 24, Orig.
28-May-15 | AL | Gadsden | Northeast Alabama Rgnl | 5/4766 | 03/24/15 | RNAV (GPS) RWY 24, Amdt 1.
28-May-15 | AL | Gadsden | Northeast Alabama Rgnl | 5/4767 | 03/24/15 | RNAV (GPS) RWY 6, Amdt 1A.
28-May-15 | AL | Gadsden | Northeast Alabama Rgnl | 5/4768 | 03/24/15 | RNAV (GPS) RWY 18, Amdt 1.
28-May-15 | AL | Gadsden | Northeast Alabama Rgnl | 5/4769 | 03/24/15 | RNAV (GPS) RWY 36, Amdt 1.
28-May-15 | AL | Bay Minette | Bay Minette Muni | 5/4771 | 03/24/15 | RNAV (GPS) RWY 8, Amdt 1.
28-May-15 | AL | Ozark | Blackwell Field | 5/4772 | 03/24/15 | RNAV (GPS) RWY 31, Orig.
28-May-15 | AL | Ozark | Blackwell Field | 5/4773 | 03/24/15 | RNAV (GPS) RWY 13, Orig.
28-May-15 | AL | Anniston | Anniston Rgnl | 5/4774 | 03/24/15 | RNAV (GPS) RWY 5, Amdt 1A.
28-May-15 | AL | Headland | Headland Muni | 5/4873 | 03/24/15 | RNAV (GPS) RWY 27, Amdt 1.
28-May-15 | AL | Headland | Headland Muni | 5/4874 | 03/24/15 | RNAV (GPS) RWY 9, Amdt 1.
28-May-15 | AL | Evergreen | Middleton Field | 5/4877 | 03/24/15 | RNAV (GPS) RWY 28, Amdt 1.
28-May-15 | AL | Evergreen | Middleton Field | 5/4878 | 03/24/15 | RNAV (GPS) RWY 10, Amdt 1.
28-May-15 | AL | Evergreen | Middleton Field | 5/4879 | 03/24/15 | RNAV (GPS) RWY 1, Amdt 1.
28-May-15 | AL | Russellville | Bill Pugh Field | 5/4880 | 03/24/15 | RNAV (GPS) RWY 20, Orig-A.
28-May-15 | AL | Russellville | Bill Pugh Field | 5/4881 | 03/24/15 | RNAV (GPS) RWY 2, Orig-A.
28-May-15 | AL | Mobile | Mobile Rgnl | 5/4897 | 03/24/15 | RNAV (GPS) RWY 36, Amdt 1.
28-May-15 | AL | Monroeville | Monroe County | 5/4901 | 03/23/15 | RNAV (GPS) RWY 3, Orig-B.
28-May-15 | AL | Monroeville | Monroe County | 5/4902 | 03/23/15 | VOR RWY 3, Amdt 10.
28-May-15 | AL | Monroeville | Monroe County | 5/4903 | 03/23/15 | VOR RWY 21, Amdt 10.
28-May-15 | AL | Montgomery | Montgomery Rgnl (Dannelly Field) | 5/4991 | 03/23/15 | NDB RWY 10, Amdt 19.
28-May-15 | AL | Centre | Centre-Piedmont-Cherokee County Rgnl | 5/4995 | 03/23/15 | RNAV (GPS) RWY 25, Amdt 1.
28-May-15 | AL | Centre | Centre-Piedmont-Cherokee County Rgnl | 5/4996 | 03/23/15 | RNAV (GPS) RWY 7, Amdt 1.
28-May-15 | WV | Berkeley Springs | Potomac Airpark | 5/5415 | 03/27/15 | GPS RWY 29, Orig.
28-May-15 | WV | Berkeley Springs | Potomac Airpark | 5/5416 | 03/27/15 | GPS RWY 11, Orig.
28-May-15 | WV | Berkeley Springs | Potomac Airpark | 5/5417 | 03/27/15 | VOR RWY 29, Amdt 6.
28-May-15 | CO | Denver | Centennial | 5/5763 | 03/27/15 | RNAV (GPS) RWY 28, Amdt 1A.
28-May-15 | NY | Montauk | Montauk | 5/5861 | 03/26/15 | RNAV (GPS) RWY 24, Amdt 1A.
28-May-15 | NY | Montauk | Montauk | 5/5862 | 03/26/15 | RNAV (GPS) RWY 6, Orig-A.
28-May-15 | TX | Arlington | Arlington Muni | 5/5863 | 03/25/15 | ILS OR LOC/DME RWY 34, Amdt 2B.
28-May-15 | TX | Arlington | Arlington Muni | 5/5864 | 03/25/15 | RNAV (GPS) RWY 34, Amdt 3B.
28-May-15 | MI | Hastings | Hastings | 5/5865 | 03/23/15 | VOR RWY 12, Orig-F.
28-May-15 | CA | Rio Vista | Rio Vista Muni | 5/6625 | 03/27/15 | RNAV (GPS) RWY 25, Amdt 3B.
28-May-15 | CA | Rio Vista | Rio Vista Muni | 5/6626 | 03/27/15 | VOR/DME-A, Amdt 2.
28-May-15 | HI | Honolulu | Honolulu Intl | 5/6631 | 03/27/15 | ILS Y RWY 4R, Amdt 1A.
28-May-15 | WI | New Lisbon | Mauston-New Lisbon Union | 5/6662 | 03/27/15 | RNAV (GPS) RWY 32, Orig-A.
28-May-15 | TX | Cotulla | Cotulla-La Salle County | 5/7127 | 03/27/15 | RNAV (GPS) RWY 13, Amdt 2.
28-May-15 | TX | Houston | Ellington | 5/7357 | 03/27/15 | TACAN RWY 35L, Orig.
28-May-15 | TX | Houston | Ellington | 5/7358 | 03/27/15 | TACAN RWY 17R, Orig.
28-May-15 | TX | Houston | Ellington | 5/7359 | 03/27/15 | ILS OR LOC RWY 17R, Amdt 6.
28-May-15 | TX | Houston | Ellington | 5/7360 | 03/27/15 | RNAV (GPS) RWY 17R, Amdt 1A.
28-May-15 | TX | Houston | Ellington | 5/7361 | 03/27/15 | RNAV (GPS) RWY 22, Amdt 2A.
28-May-15 | SC | Bamberg | Bamberg County | 5/8196 | 03/30/15 | RNAV (GPS) RWY 5, Orig-A.
28-May-15 | SC | Bamberg | Bamberg County | 5/8197 | 03/30/15 | RNAV (GPS) RWY 23, Orig-A.
28-May-15 | MA | Norwood | Norwood Memorial | 5/8445 | 03/31/15 | LOC RWY 35, Amdt 10B.
28-May-15 | MA | Norwood | Norwood Memorial | 5/8446 | 03/31/15 | RNAV (GPS) RWY 35, Amdt 1B.
28-May-15 | KY | Covington | Cincinnati/Northern Kentucky Intl | 5/8875 | 03/15/15 | RNAV (GPS) Y RWY 27, Orig.
28-May-15 | KY | Covington | Cincinnati/Northern Kentucky Intl | 5/8876 | 03/15/15 | ILS OR LOC RWY 27, Amdt 17A.
28-May-15 | NY | East Hampton | East Hampton | 5/8887 | 03/31/15 | VOR-A, Amdt 11.
28-May-15 | PA | Mount Pocono | Pocono Mountains Muni | 5/8894 | 03/30/15 | RNAV (GPS) RWY 31, Amdt 2B.

[FR Doc. 2015-10235 Filed 5-4-15; 8:45 am]

BILLING CODE 4910-13-P